DEPARTMENT OF HEALTH AND HUMAN SERVICES

National Institutes of Health

Notice To Announce Request for Information To Assist in the Development of a New Strategic Plan for the National Institute on Deafness and Other Communication Disorders, for 2022-2026

AGENCY: National Institutes of Health, HHS.

ACTION: Notice.

SUMMARY: The National Institute on Deafness and Other Communication Disorders (NIDCD) is in the process of developing a new Strategic Plan for 2022-2026 to help guide the research it supports over the next five years. Through this Request for Information, NIDCD invites researchers in academia and industry, health care professionals, patient advocates and health advocacy organizations, scientific or professional organizations, Federal agencies, and other interested members of the public to provide ideas to inform development of NIDCD's next strategic plan.

DATES: The NIDCD's Request for Information is open for public idea submission for a period of 60 days. Ideas must be received by March 31, 2020, to ensure consideration. After the idea submission period has closed, NIDCD will consider the ideas we received in a timely manner for the development of the 2022-2026 Strategic Plan of the National Institute on Deafness and Other Communication Disorders.

ADDRESSES: Please visit our website to view our questions and submit your ideas to NIDCD electronically: https://www.nidcd.nih.gov/about/strategic-plan/2022-2026/2022-2026-nidcd-strategic-planning-process. NIDCD will also accept submissions via email (NIDCDStrategicPlan@nidcd.nih.gov).

FOR FURTHER INFORMATION CONTACT: Laura K. Cole, Ph.D., Planning and Evaluation Officer, Science Policy and Planning Branch, National Institute on Deafness and Other Communication Disorders, NIH, 31 Center Drive, Suite 3C25, Bethesda, MD 20892. Phone: 301-402-2313. Email: colel@nidcd.nih.gov.

SUPPLEMENTARY INFORMATION: This notice is in accordance with the 21st Century Cures Act, NIH institutes are required to regularly update their strategic plans. The NIDCD's mission is to improve the lives of the millions of people with hearing loss and other communication disorders, spanning functions of hearing, balance, taste, smell, voice, speech, and language. Our vision is that all those with disorders in these areas benefit from scientific discovery that informs effective and accessible treatments and improves quality of life. To get us there, NIDCD is seeking your best ideas to help as we develop our 2022-2026 Strategic Plan.

Dated: January 22, 2020.
Timothy J. Wheeles,
Executive Officer, National Institute on Deafness and Other Communication Disorders, National Institutes of Health.

[FR Doc. 2020-01480 Filed 1-28-20; 8:45 am]

BILLING CODE 4140-01-P